DEPARTMENT OF ENERGY

Federal Energy Regulatory Commission

[Docket Nos. RP00-327-006 and RP00-604-006]

Columbia Gas Transmission Corporation; Notice of Compliance Filing

November 20, 2003.

Take notice that on November 17, 2003, Columbia Gas Transmission Corporation (Columbia) tendered for filing as part its FERC Gas Tariff, Second Revised Volume No. 1, the following tariff sheets, bearing an effective date of September 1, 2003:

Fifth Revised Sheet No. 306

Fourth Revised Sheet No. 307

Fifth Revised Sheet no. 307A

Sixth Revised Sheet No. 309

Seventh Revised Sheet No. 310

Third Revised Sheet No. 311

Second Revised Sheet No. 313

Third Revised Sheet No. 382

Fifth Revised Sheet No. 391

Columbia states it is making this filing in compliance with the Commission's October 27, 2003 Order (October 27 Order) in the above-referenced dockets. In the October 27 Order, the Commission held that Columbia's August 14, 2003 filing to comply with the Commission's July 30, 2003 order on Columbia's compliance with Order Nos. 637, 587-G, and 587-L generally complied with the requirements of those Orders. Columbia states that the Commission required it make certain compliance changes by filing tariff sheets within 20 days of the date of issuance of the October 27 Order. Columbia further states that these revised tariff sheets reflect the changes required by the Commission in the October 27 Order.

Columbia states that copies of its filing have been mailed to all firm customers, interruptible customers and affected state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00408 Filed 11-28-03; 8:45 am]

BILLING CODE 6717-01-P